DEPARTMENT OF LABOR

Employment and Training Administration

Workforce Innovation and Opportunity Act Native American Employment and Training Council

AGENCY: Employment and Training Administration, U.S. Department of Labor.

ACTION: Notice of meeting.

SUMMARY: Pursuant to section 10(a)(2) of the Federal Advisory Committee Act (FACA), as amended, and section 166(i)(4) of the Workforce Innovation and Opportunity Act (WIOA), notice is hereby given of the next meeting of the Native American Employment and Training Council (NAETC or Council), as constituted under WIOA.

DATES: The meeting will begin at 1 p.m., (Pacific time) on Tuesday, October 29, 2024, and continue until 5 p.m. (Pacific time). The meeting will reconvene at 10 a.m. (Pacific time), on Wednesday, October 30, 2024, and adjourn at 4 p.m. (Pacific time). The period from 1 p.m. to 2 p.m., on Wednesday, October 30, 2024, is reserved for participation and comment by members of the public.

ADDRESSES: The meeting will be held in person in the at the MGM Grand, 3799 S Las Vegas Blvd., Las Vegas, NV 89109. The meeting will also be accessible virtually. To join the meeting use the following URLs:

October 29, 2024

https://thegateam.webex.com/thegateam/j.php?MTID=m74feb877bd8079f53609e004154d6e81

Meeting number: 2340 979 4955 Password: 1005

Join by phone

1-844-992-4726 United States Toll Free

1-408-418-9388 United States Toll

Access code: 2340 979 4955

October 30, 2024

https://thegateam.webex.com/thegateam/j.php?MTID=med861edd0453fafce35e87ba9e223f19

Meeting number: 2347 189 3020 Password: 1005

Join by phone

1-844-992-4726 United States Toll Free

1-408-418-9388 United States Toll

Access code: 2347 189 3020

FOR FURTHER INFORMATION CONTACT: Nathaniel Coley, Designated Federal Officer, Division of Indian and Native American Programs, Employment and Training Administration, U.S. Department of Labor, Room S-4209, 200 Constitution Avenue NW, Washington, DC 20210. Telephone number (202) 693-4287 (VOICE) (this is not a toll-free number) or chief.dinap@dol.gov.

SUPPLEMENTARY INFORMATION:

Council members and members of the public are encouraged to logon to the link provided early to allow for connection issues and troubleshooting.

The meeting will be open to the public. Members of the public not present may submit a written statement by Friday, October 25, 2024, to be included in the record of the meeting. Statements are to be submitted to the U.S. Department of Labor Division of Indian and Native American Programs (DINAP) at DINAP@dol.gov. Persons who need special accommodations should contact Nathaniel Coley at 202-693-4287 or chief.dinap@dol.gov, two business days before the meeting. The formal agenda will focus on the following main topics: (1) Updates from the Employment and Training Administration; (2) NAETC workgroup updates; (3) DINAP updates; and (4) public comment.

José Javier Rodríguez,
Assistant Secretary for Employment and Training, Labor.

[FR Doc. 2024-22244 Filed 9-27-24; 8:45 am]

BILLING CODE 4510-FR-P